DEPARTMENT OF THE INTERIOR

National Park Service

Announcement of Subsistence Resource Commission Meeting

AGENCY: National Park Service, Interior.

ACTION: Announcement of Subsistence Resource Commission meeting.

SUMMARY: The Superintendent of Gates of the Arctic National Park and Preserve and the Chairperson of the Subsistence Resource Commission for Gates of the Arctic National Park announce a forthcoming meeting of the Gates of the Arctic National Park Subsistence Resource Commission. The following agenda items will be discussed:

(1) Call to order.

(2) Roll call.

(3) Approval of summary of meeting minutes for November 15-17,1999 meeting in Fairbanks.

(4) Review agenda.

(5) Superintendent's introductions of guests and staff and review of Commission function and purpose.

(6) Superintendent's Management/Research Report Summary.

a. Administration and management.

b. Park operations.

c. Resource management.

d. Subsistence program.

(7) Public and agency comments.

(8) Old Business.

a. Draft Subsistence Management Plan-review of public comments.

(9) New Business

a. Review Federal Subsistence Board and Regional Advisory Council actions.

b. Federal Subsistence Fisheries Management.

c. SRC Work Session (Draft letters/updates Subsistence Management Plan—if necessary).

(10) Set time and place of next SRC meeting.

(11) Adjournment.

DATES: The meeting will be held from 1:30 p.m. until 5 p.m. on Tuesday May 9, 8:30 a.m. to 5 p.m. on Wednesday May 10, and 8:30 a.m. to noon on Thursday May 11, 2000.

LOCATION: The meeting will be held at the IRA building in Ambler, Alaska

FOR FURTHER INFORMATION CONTACT: Jeff Mow, 201 First Avenue, Doyon Bldg., Fairbanks, Alaska 99701. Phone (907) 456-0578.

SUPPLEMENTARY INFORMATION: The Subsistence Resource Commissions are authorized under Title VIII, section 808, of the Alaska National Interest Lands Conservation Act, Public Law 96-487 and operate in accordance with the provisions of the Federal Advisory Committees Act.

Robert D. Barbee,
Regional Director.

[FR Doc. 00-10853 Filed 5-1-00; 8:45 am]

BILLING CODE 4310-70-P